OFFICE OF PERSONNEL MANAGEMENT

Comment Request for OMB Review of an Extension of the Nonforeign Area Cost-of-Living Allowance Price and Background Surveys

AGENCY: Office of Personnel Management.

ACTION: Notice.

SUMMARY: In accordance with the Paperwork Reduction Act of 1995, the Office of Personnel Management (OPM) seeks comments on its intention to request an extension of two currently approved information collections. OPM uses the two collections, a Price Survey and a Background Survey, to gather data it uses to determine cost-of-living allowances the Government provides to certain Federal employees in Alaska, Hawaii, Guam and the Northern Mariana Islands, Puerto Rico, and the U.S. Virgin Islands. OPM conducts Price Surveys in the Washington, DC, area on an annual basis and once every 3 years in each allowance area on a rotating basis. Prior to these surveys, OPM conducts Background Surveys that are similar to the Price Survey, but much more limited in scope. OPM uses the results of the Background Surveys to prepare for the Price Surveys.

DATES: Submit comments on or before April 4, 2005.

ADDRESSES: Send or deliver comments to Donald J. Winstead, Deputy Associate Director for Pay and Performance Policy, Office of Personnel Management, Room 7H31, 1900 E Street NW., Washington, DC 20415-8200; fax (202) 606-4264, or e-mail: cola@opm.gov.

SUPPLEMENTARY INFORMATION: Office of Management and Budget (OMB) approval of the Nonforeign Area Cost-of-Living Allowance (COLA) Price Survey and Background Survey will expire on May 31, 2005. The Office of Personnel Management (OPM) plans to request OMB approval for a 3-year extension of these currently approved information collections and is seeking comments prior to submitting the collections to OMB for review.

Comments are particularly invited on whether (1) these collections of information are necessary for the proper performance of OPM functions, (2) they will have practical utility, (3) our estimate of the public burden of these collections of information is accurate and based on valid assumptions and methodology, and (4) there are ways in which we can minimize respondent burden of the collections of information through the use of appropriate technological collection techniques or other forms of information technology.

For copies of this proposal, contact Mary Beth Smith-Toomey on (202) 606-8358, fax (202) 418-3251, or e-mail mbtoomey@opm.gov. Please include a mailing address with your request.

Overview of Information Collections

Title: Nonforeign Area Cost-of-Living Allowance Price Survey and Background Survey.

OMB Control Number: 3206-0199.

Summary: OPM uses the COLA Price Survey to collect price data in survey areas located in the nonforeign allowance areas and in the Washington, DC, area. The allowance areas are located in Alaska, Hawaii, Guam and the Northern Mariana Islands, Puerto Rico, and the U.S. Virgin Islands. OPM conducts Price Surveys annually in the DC area and once every 3 years in the allowance areas on a rotating basis. OPM uses the COLA Background Survey to collect information to identify the services, items, quantities, outlets, and locations OPM will survey in the Price Surveys. OPM also uses Background Surveys to collect information on local trade practices, consumer buying patterns, taxes and fees, and other economic characteristics related to living costs. OPM conducts Background Surveys annually on a limited basis.

Need/Use for Surveys: The COLA Price Survey is necessary for collecting living-cost data OPM uses to determine COLAs received by General Schedule, U.S. Postal Service, and certain other Federal employees in the allowance areas. OPM uses the survey results to compare prices in the allowance areas with prices in the Washington, DC, area and to derive COLA rates where local living costs significantly exceed those in the DC area. The COLA Background Survey is necessary to determine the continued appropriateness of items, services, and businesses selected for the annual price surveys. OPM uses the information collected under the Background Survey to identify items to be priced and the outlets at which OPM will price the items in the Price Surveys.

Respondents: OPM will survey selected retail, service, realty, and other businesses and local governments in the allowance areas and in the Washington, DC, area. OPM will contact approximately 2,000 establishments in each annual Price Survey and approximately 100 establishments in each annual Background Survey. Participation in the surveys is voluntary.

Reporting and Recordkeeping Burden: Based on experience, OPM estimates that the average Price Survey interview takes approximately 6 minutes, for a total burden of 200 hours. Also based on experience, OPM estimates that the average Background Survey interview will take approximately 6.5 minutes, for a total burden of 11 hours.

Office of Personnel Management.
Kay Coles James,
Director.

[FR Doc. 05-1728 Filed 1-31-05; 8:45 am]

BILLING CODE 6325-39-P